FEDERAL COMMUNICATIONS COMMISSION

Sunshine Act Meeting

July 8, 2004.

Deletion of Agenda Item From July 8, 2004, Open Meeting

The following item has been deleted from the list of Agenda items scheduled for consideration at the July 8, 2004, Open Meeting and previously listed in the Commission's Notice of July 1, 2004.

5 | Wireline Competition | Title: Review of the Section 251 Unbundling Obligations of Incumbent Local Exchange Carriers (CC Docket No. 01-338).
|  | Summary: The Commission will consider a Second Report and Order concerning the reinterpretation of section 252(i) of the Communications Act of 1934, as amended.

Federal Communications Commission.
Marlene H. Dortch,
Secretary.

[FR Doc. 04-15978 Filed 7-9-04; 2:36 pm]

BILLING CODE 6712-01-P